ENVIRONMENTAL PROTECTION AGENCY

[FRL-6857-2]

Microbial and Disinfection Byproducts Advisory Committee; Notice of Meeting

AGENCY: Environmental Protection Agency (EPA).

ACTION: Notice of meeting.

SUMMARY: Under section 10(a)(2) of Public Law 920423, “The Federal Advisory Committee Act,” notice is hereby given of an extra meeting of the Microbial and Disinfection Byproducts Advisory Committee established under the Safe Drinking Water Act, as amended (42 U.S.C. S300f et seq.). The meeting will be held on September 6 and is scheduled from 9:00 a.m. to 5:00 p.m. eastern time. The meeting will be held at RESOLVE, Inc., 1255 23rd Street, N.W., Suite 275, Washington, D.C. 20037. The meeting is open to the public, but due to past experience, seating will be limited.

The purpose of this meeting is to review outstanding issues and reach a final Agreement in Principle. Statements from the public will be taken if time permits.

For more information, please contact Mariana Negro, Designated Federal Officer, Microbial and Disinfection Byproducts Advisory Committee, U.S. EPA, Office of Ground Water and Drinking Water, Mailcode 4607, 1200 Pennsylvania Avenue, N.W., Washington, D.C. 20460. The telephone number is 202-260-5746 or E-mail negro.mariana@epamail.epa.gov.

Dated: August 16, 2000.
Ephraim King,
Acting Director, Office of Ground Water and Drinking Water.

[FR Doc. 00-21669 Filed 8-23-00; 8:45 am]

BILLING CODE 6560-50-P